DEPARTMENT OF THE INTERIOR

Bureau of Indian Affairs

Notice of Intent to Prepare a Supplemental Environmental Impact Statement for the Proposed Campo Solid Waste Landfill Facility on the Campo Indian Reservation, San Diego County, CA

AGENCY: Bureau of Indian Affairs, Interior.

ACTION: Notice.

SUMMARY: This notice advises the public that the Bureau of Indian Affairs (BIA) as lead agency, with the Campo Band of Kumeyaay Indians (Campo Band) as a cooperating agency, intends to prepare a Supplemental Environmental Impact Statement (SEIS) for a proposed solid waste landfill facility to be located on the Campo Indian Reservation in San Diego County, California. The purpose of the proposed action is to provide economic support for tribal self-sufficiency and self-government and to address the socio-economic needs of the Campo Band.

DATES: Written comments on this notice must arrive by December 9, 2005.

ADDRESSES: You may mail or hand carry written comments to Clay Gregory, Regional Director, Pacific Regional Office, Bureau of Indian Affairs, 2800 Cottage Way, Sacramento, California 95825. Please include your name, return address and the caption, “SEIS, Campo Solid Waste Landfill Facility Proposal,” on the first page of your written comments.

FOR FURTHER INFORMATION CONTACT: John Rydzik, (916) 978-6042.

SUPPLEMENTARY INFORMATION: The proposed action is to approve a lease and sublease to allow a 1,150 acre portion of the Campo Indian Reservation to be used for the construction and operation of a solid waste landfill facility. The solid waste landfill facility would require approximately 600 acres of the 1,150 acre lease area. The remaining 550 acres of lease area that surround the proposed facility would be preserved as an undeveloped buffer area. The Campo Indian Reservation, which consists of 15,580 acres in southeastern San Diego County, lies just north of the United States/Mexico border and approximately 45 miles inland from the Pacific Ocean.

The Campo Band previously entered into a lease agreement with Muht-Hei, Inc. (MHI), pursuant to which MHI would lease a portion of the Campo Indian Reservation for the purpose of constructing and operating a solid waste landfill, recycling facility, and composting facility. The Campo Band originally authorized MHI in 1989 to enter into a sublease with Mid-American Waste Systems, Inc. (MAWS) for the development of the solid waste landfill facility. The Campo Band requested the BIA approve the lease and sublease for the proposed project. An Environmental Impact Statement (EIS) was prepared by BIA, in accordance with the requirements of the National Environmental Policy Act, to evaluate the environmental impacts of the proposed project prior to determining whether the proposed lease related to the project should be approved. A Final EIS (FEIS) was released on November 24, 1992. The BIA issued a Record of Decision (ROD) with conditions on April 27, 1993, and approved the lease between the Campo Band and MHI and sublease between MHI and MAWS for the proposed solid waste landfill. The Campo Environmental Protection Agency (CEPA) issued a final Authority to Construct Permit (ATC) to MHI and MAWS on April 5, 1994, to construct the proposed solid waste landfill, subject to the conditions of the ROD and ATC.

Subsequently, MAWS failed to proceed with construction of the project and MHI was found in default of the sublease terms. Since that time, MHI has solicited interest from other solid waste landfill developers. In early 2003, MHI began negotiations with BLT Enterprises, Inc. (BLT), Oxnard, California, on the terms of a sublease to develop the solid waste landfill described in the FEIS. Those negotiations were successfully concluded and on December 12, 2004, the Campo Band authorized MHI to enter into a sublease with BLT.

The BIA has decided to prepare a SEIS to address changes in the proposed action, relevant information that has become available, or circumstances that have changed over the years since the FEIS was issued. Areas of concern addressed in the FEIS included land resources, water resources, air quality, living resources, cultural resources, socio-economics, transportation, land use, resource use patterns, noise and other values. The FEIS included five alternatives to the proposed action, as follows: (1) Alternative Site One, (2) Alternative Site Two, (3) Reduced Waste Stream at the Proposed Site, (4) Reduced Area of Disturbance at the Proposed Site, and (5) No Action. The SEIS will incorporate the proposed project description from the FEIS by reference, and will discuss aspects of the project that have changed since the FEIS was released in 1992, any changes in environmental impacts associated with those changes, and changes to alternatives.

Public Comment Availability

Comments, including names and addresses of respondents, will be available for public review at the BIA address shown in the ADDRESSES section, during business hours, 8 a.m. to 4:30 p.m., Monday through Friday, except holidays. Individual respondents may request confidentiality. If you wish us to withhold your name and/or address from public review or from disclosure under the Freedom of Information Act, you must state this prominently at the beginning of your written comment. Such requests will be honored to the extent allowed by the law. We will not, however, consider anonymous comments. All submissions from organizations or businesses, and from individuals identifying themselves as representatives or officials of organizations or businesses, will be made available for public inspection in their entirety.

Authority

This notice is published in accordance with sections 1503.1, 1506.6 and 1508.22 of the Council on Environmental Quality Regulations (40 CFR Parts 1500 through 1508) implementing the procedural requirements of the National Environmental Policy Act of 1969, as amended (42 U.S.C. 4321 et seq.), Department of the Interior Manual (516 DM 1-6), and is in the exercise of authority delegated to the Principal Deputy Assistant Secretary—Indian Affairs by 209 DM 8.l.

Dated: October 24, 2005.
Michael D. Olsen,
Acting Principal Deputy Assistant Secretary—Indian Affairs.

[FR Doc. 05-22173 Filed 11-7-05; 8:45 am]

BILLING CODE 4310-W7-P